SECURITIES AND EXCHANGE COMMISSION

[File No. 500-1]

C$ cMoney, Inc.; Order of Suspension of Trading

February 16, 2012.

It appears to the Securities and Exchange Commission that there is a lack of current and accurate information concerning the securities of C$ cMoney, Inc. (“cMoney”) because of questions regarding the accuracy of assertions by cMoney, and by others, in press releases to investors and other public statements concerning, among other things, the identity of persons controlling the operations, management and securities of the company, the purported engagement of an independent auditor and the status of the company's audit.

The Commission is of the opinion that the public interest and the protection of investors require a suspension of trading in the securities of the above-listed company.

Therefore, it is ordered, pursuant to Section 12(k) of the Securities Exchange Act of 1934, that trading in the securities of the above-listed company is suspended for the period from 9:30 a.m. EST, on February 16, 2012 through 11:59 p.m. EST, on March 1, 2012.

By the Commission.
Elizabeth M. Murphy,
Secretary.

[FR Doc. 2012-4043 Filed 2-16-12; 4:15 pm]

BILLING CODE 8011-01-P